OFFICE OF MANAGEMENT AND BUDGET

Public Availability of Year 2001 Agency Inventories Under the Federal Activities Inventory Reform Act of 1998 (Public Law 105-270) (“FAIR Act”)

AGENCY: Office of Management and Budget, Executive Office of the President.

ACTION: Notice of public availability of agency inventories of activities that are not inherently governmental.

SUMMARY: Agency Inventories of Activities that are not Inherently Governmental are now available to the public from the agencies listed below, in accordance with the “Federal Activities Inventory Reform Act of 1998” (Public Law 105-270) (“FAIR Act”). This is the second release of the 2001 FAIR Act inventories. In addition, the Office of Federal Procurement Policy has prepared and has made available a summary FAIR Act User's Guide through its Internet site: http://www.whitehouse.gov/OMB/procurement/index.html. This User's Guide will help interested parties review 2001 FAIR Act inventories, and will also include the Website addresses to access agency inventories.

The FAIR Act requires that OMB publish an announcement of public availability of agency Inventories of Activities that are not Inherently Governmental upon completion of OMB's review and consultation process concerning the content of the agencies' inventory submissions. OMB has now completed this process for the year 2001.

The attached Inventories of Activities that are not Inherently Governmental are now available.

Mitchell E. Daniels, Jr.,
Director.

Attachment

Agency | Contact
Armed Forces Retirement Home | Rick Coleman, 202-730-3504 Website: www.afrh.com
Barry Goldwater Scholarship Education Foundation | Gerald Smith, 703-756-6012 Website: www.act.org/goldwater
Christopher Columbus Fellowship Foundation | Judith Shellenberger, 315-258-0090 Website: www.columbusfdn.org
Committee Purchase People Who Are Blind or Severely Disabled | Dr. Rita Wells, 703-603-7740 Website: www.jwod.gov
Commerce | Edna Campbell, 202-482-0585 Website: www.doc.gov/oebam/fair
Consumer Product Safety Commission | Edward Quist, 301-504-0029 ext. 2240 Website: www.cpsc.gov/businfo/businfo.html
Council on Environmental Quality | Ted Boling, 202-395-3449 Website: www.whitehouse.gov/CEQ
Education | Gary Weaver, 202-401-3848 Website: www.ed.gov
Environmental Protection Agency OIG) | Lisa Karpf, 202-260-8380 Website: www.epa.gov/oigearth
Environmental Protection Agency | George Ames, 202-564-4998 Website: www.epa.gov/efinpage
Equal Employment Opportunity Commission | George Betters, 202-663-4266 Website: www.eeoc.gov
Federal Communications Commission | Michelle Sutton, 202-418-0100 Website: www.fcc.gov
Farm Credit Administration | Phillip Shebest, 703-883-4146 Website: www.fca.gov
Federal Labor Relations Authority | Harold Kessler, 202-482-6690 ext. 440 Website: www.flra.gov
Federal Retirement Thrift Investment Board | Richard White, 202-942-1633 Website: www.frtib.gov/eread.html
Federal Maritime Commission | Bruce Dombrowski, 202-523-5800 Website: www.fmc.gov
Federal Energy Regulatory Commission | Donald Chamblee, 202-208-1088 Website: www.ferc.fed.gov
Federal Mine Safety and Health Review Commission | Richard Baker, 202-653-5625 Website: www.fmshrc.gov
Health and Human Services | Michael Colvin, 202-690-7887 Website: www.hhs.gov/ogam
Interior | Jennings Wong, 202-208-6704 Website: www.doi.gov/pam
Interior (OIG) | Richard Farr, 202-208-4599 Website: www.oig.doi.gov
Japan-United States Friendship Commission | Eric Ganloff, 202-418-9800 Website: www.jusfc.gov
Marine Mammal Commission | Suzanne Montgomery, 301-504-0087 Website: www.whitehouse.gov/OMB/procurement
Morris Udall Foundation | Chris Helms, 520-670-5299 Website: www.Udall.gov
National Commission on Libraries and Information Science | Judith Russell, 202-606-9200 Website: www.nclis.gov
National Mediation Board | June King, 202-692-5010 Website: www.nmb.gov
National Endowment for the Arts | Mike Burke, 202-682-5497 Website: www.arts.gov/learn
Office of Science & Technology Policy | Barbara Ferguson, 202-456-6001 Website: www.ostp.gov
Office of Government Ethics | Sean Donohue, 202-208-8000 ext. 1217 Website: www.usoge.gov
Office of Personnel Management | Kenneth McMahill, 202-606-2424 Website: www.opm.gov/procure
Patent and Trademark Office | Daniel Haigler, 703-305-8175 Website: www.uspto.gov
Railroad Retirement Board (OIG) | Martin Dickman, 312-751-4690 Website: www.rrb.gov/oig/fairinven.html
Railroad Retirement Board | Henry M. Valiulis, 312-751-4520 Website: www.rrb.gov/pdf/cainventory.pdf
Securities and Exchange Commission | Jayne Seidman, 202-942-4000 Website: www.sec.gov

[FR Doc. 01-28517 Filed 11-13-01; 8:45 am]

BILLING CODE 3110-01-P